DEPARTMENT OF COMMERCE

International Trade Administration

[A-583-816]

Stainless Steel Butt-Weld Pipe Fittings From Taiwan: Notice of Extension of Time Limit for Preliminary Results of Antidumping Duty Administrative Review

AGENCY: Import Administration, International Trade Administration, Department of Commerce.

Effective Date: March 5, 2009.

FOR FURTHER INFORMATION CONTACT: John Drury and Angelica Mendoza, AD/CVD Operations, Office 7, Import Administration, International Trade Administration, U.S. Department of Commerce, 14th Street and Constitution Avenue, NW., Washington DC 20230; telephone: (202) 482-0195 and (202) 482-3019, respectively.

Background

On June 9, 2008, the Department of Commerce (“the Department”) published a notice of opportunity to request an administrative review of the antidumping duty order on stainless steel butt-weld pipe fittings (“SSBWPFs”) from Taiwan for the period of review (“POR”) of June 1, 2007, through May 31, 2008. See Antidumping or Countervailing Duty Order, Finding, or Suspended Investigation; Opportunity To Request Administrative Review, 73 FR 32557 (June 9, 2008). On June 27, 2008, Flowline Division of Markovitz Enterprises, Inc. (“Flowline Division”), Gerlin, Inc., Shaw Alloy Piping Products, Inc., and Taylor Forge Stainless, Inc. (collectively, “petitioners”) requested an antidumping duty administrative review for sales of SSBWPFs from Taiwan produced by Ta Chen Stainless Pipe Co., Ltd. (“Ta Chen”), Liang Feng Stainless Steel Fitting Co., Ltd., Liang Feng Enterprise, Tru-Flow Industrial Co., Ltd., Censor International Corporation, and PFP Taiwan Co., Ltd. On June 30, 2008, Ta Chen also requested an administrative review of its sales to the United States during the POR. On July 30, 2008, the Department published the notice initiating this administrative review. See Initiation of Antidumping and Countervailing Duty Administrative Reviews, Request for Revocation In Part, and Deferral of Administrative Review, 73 FR 44220 (July 30, 2008). The preliminary results are currently due not later than March 2, 2009.

Extension of Time Limits for Preliminary Results of Review

Pursuant to section 751(a)(3)(A) of the Tariff Act of 1930, as amended (“the Act”), and 19 CFR 351.213(h)(2), the Department may extend the deadline for completion of the preliminary results of a review by 120 days if it determines that it is not practicable to complete the preliminary results within 245 days after the last day of the anniversary month of the date of publication of the order for which the administrative review was requested. Due to the complexity of the issues involved, including Ta Chen's reported costs of production, and the time required to obtain and analyze additional information from Ta Chen, the Department has determined that it is not practicable to complete this review within the original time period. Accordingly, the Department is extending the time limit for the preliminary results by 120 days to not later than June 30, 2009, in accordance with section 751(a)(3)(A) of the Act.

The deadline for the final results of this review will continue to be 120 days after publication of the preliminary results.

This notice is published in accordance with sections 751(a)(3)(A) and 777(i) of the Act.

Dated: February 25, 2009.
John M. Andersen,
Deputy Assistant Secretary for Import Administration.

[FR Doc. E9-4743 Filed 3-4-09; 8:45 am]

BILLING CODE 3510-DS-P